ENVIRONMENTAL PROTECTION AGENCY

40 CFR Part 260

[FRL-6527-4]

Proposed Exclusion From the Definition of Solid Waste; Hazardous Waste Management System; Identification and Listing of Hazardous Waste

AGENCY: Environmental Protection Agency (EPA).

ACTION: Notice of public comment period extension.

SUMMARY: In response to requests from the public, EPA is extending the public comment period for the proposed rule regarding a variance from EPA's hazardous waste management requirements for certain materials reclaimed by the World Resources Company (WRC) from metal-bearing sludges. The proposed rule was published December 9, 1999 (64 FR 68968). The comment period has been extended an additional 30 days and will end March 8, 2000.

DATES: Written comments must be submitted to EPA by March 8, 2000.

ADDRESSES: Commenters must submit an original and two copies of comments referencing docket number F-99-WRCP-FFFFF to: RCRA Docket Information Center, Office of Solid Waste (5305G), U.S. Environmental Protection Agency Headquarters, Ariel Rios Building, 1200 Pennsylvania Avenue NW, Washington, DC 20460. Hand deliveries of comments should be made to the Arlington, VA address below.

Comments may also be submitted electronically to: rcra-­docket@epamail.epa.gov. Comments in electronic format should also be identified by the docket number F-99-WRCP-FFFFF. All electronic comments should be submitted as an ANCII file and should not use any special characters or any form of encryption.

Commenters should not submit any Confidential Business Information (CBI) by e-mail. An original and two copies of CBI must be submitted under separate cover to: RCRA CBI Document Control Officer, Office of Solid Waste (5305W), U.S. Environmental Protection Agency, Ariel Rios Building, 1200 Pennsylvania Ave. NW, Washington, DC 20460.

Public Comments and supporting materials are available for public viewing at the RCRA Information Center (RIC) located at: Crystal Gateway 1, First Floor, 1235 Jefferson Davis Highway, Arlington, VA. The docket is open from 9 a.m. to 4 p.m., Monday through Friday, except Federal holidays. To review docket materials it is recommended that a member of the public make an appointment by calling (703) 603-9230. Members of the public may make a maximum of 100 copies from the regulatory docket at no charge. Additional copies cost $0.15/page. For instructions on how to access the docket index see the Supplementary Information Section.

FOR FURTHER INFORMATION CONTACT: For general information contact the RCRA/ Superfund/ EPCRA/UST Hotline at (800) 424-9346 (toll free) or TDD (800) 553-7672 (hearing impaired). In the Washington, DC metropolitan area call (703) 412-9810 or TDD (703) 412-3323. For more detailed information on specific aspects of this rulemaking contact Ms. Marilyn Goode, U.S. EPA, MC 5304W, Ariel Rios Building, 1200 Pennsylvania Avenue, Washington, DC 20460. E-mail: goode.marilyn@epa.gov. Phone: (703) 308-8800.

SUPPLEMENTARY INFORMATION: The Index to the docket is available on the Internet. Access it by following these directions:

WWW: http://www.epa.gov/epaoswer/osw/hazwaste.htm#id

FTP: FTP: ftp.epa.gov

Login: Anonymous

Password: Your Internet Address

Files are located in /pub/epaoswer

The official record for this action will be kept in paper form. Accordingly, EPA will transfer all comments received electronically into paper form and place them in the official record, which will also include all comments submitted directly in writing. The official record is a paper record maintained at the address in ADDRESSES at the beginning of this notice. EPA responses to comments, whether the comments are written or electronic, will be in a notice in the Federal Register or in a response to comments document placed in the official record for this rulemaking. EPA will not immediately reply to commenters electronically other than to seek clarification of electronic comments that may be garbled in transmission or during conversion to paper form.

Dated: January 11, 2000.
Elizabeth Cotsworth,
Director, Office of Solid Waste.

[FR Doc. 00-1364 Filed 1-19-00; 8:45 am]

BILLIING CODE 6560-50-P